DEPARTMENT OF HOMELAND SECURITY

Office of Grants and Training, Citizens Corps; Agency Information Collection Activities: Submission for OMB Review; Comment Request

AGENCY: DHS, Office of Grants and Training, Citizens Corps.

ACTION: Notice and request for comments.

SUMMARY: Department of Homeland Security (DHS), has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments DHS will use.

Title: Citizens Corps Individual Registration.

OMB Number: 1660-0078.

Abstract: This information collection will enable Citizens Corps to operate effective and efficiently to regularize and coordinate activities between Citizens Corps and those groups active in education, training and coordinating volunteers in crime prevention, disaster preparedness, mitigation, public health and safety issues.

Affected Public: Individual citizens.

Number of Respondents: 20,000 per year.

Estimated Time per Respondent: 5 minutes.

Estimated Total Annual Burden Hours: 1,666.66.

Frequency of Response: On occasion.

Comments: Interested persons are invited to submit written comments on the proposed information collection to the Office of Information and Regulatory Affairs, Office of Management Budget, Attention: Nathan Lesser, Desk Officer, Department of Homeland Security/and sent via electronic mail to oira_submission@omb.eop.gov or faxed to (202) 395-6974. Comments must be submitted on or before October 23, 2006.

FOR FURTHER INFORMATION CONTACT: Requests for additional information or copies of the information collection should be made to Chief, Records Management, DHS, Office of Community Preparedness, Karen Marsh, 810 7th Street, NW., Washington, DC 20531, Karen.Marsh@dhs.gov, phone number (202) 577-9820 and fax number (202) 786-9619.

Dated: September 15, 2006.
Charlie Church,
Chief Information Officer, Information and Technology Division, Preparedness Directorate, Department of Homeland Security.

[FR Doc. 06-7872 Filed 9-21-06; 8:45 am]

BILLING CODE 4410-10-P